DEPARTMENT OF HOMELAND SECURITY

Coast Guard

[Docket No. USCG-2010-0054]

Merchant Marine Personnel Advisory Committee; Meetings

AGENCY: Coast Guard, DHS.

ACTION: Notice of meetings.

SUMMARY: The Merchant Marine Personnel Advisory Committee (MERPAC) will meet in Metairie, Louisiana (LA) to discuss various issues related to the training and fitness of merchant marine personnel. These meetings will be open to the public.

DATES: MERPAC will meet on Thursday, March 11, 2010, from 8 a.m. until 4 p.m., and Friday, March 12, 2010, from 8 a.m. until 4 p.m. These meetings may close early if all business is finished. Written material and requests to make oral presentations should reach the Coast Guard on or before March 1, 2010. Requests to have a copy of your material distributed to each member of the committee should reach the Coast Guard on or before March 1, 2010.

ADDRESSES: The Committee will meet at the New Orleans Marriott Metairie at Lakeway Hotel, 3838 N. Causeway Boulevard, Metairie, LA. Send written material and requests to make oral presentations to Mr. Mark Gould, Assistant to the Designated Federal Officer (DFO) of MERPAC, at Commandant (CG-5221), ATTN MERPAC, U.S. Coast Guard, 2100 Second St., SW., STOP 7126, Washington, DC 20593-7126. This notice may be viewed in our online docket, USCG-2010-0054, at http://www.regulations.gov.

FOR FURTHER INFORMATION CONTACT: Mr. Mark Gould, Assistant to the DFO of MERPAC, telephone 202-372-1409.

SUPPLEMENTARY INFORMATION: Notice of these meetings is given under the Federal Advisory Committee Act, 5 U.S.C. App. (Pub. L. 92-463). MERPAC is chartered under that Act. It provides advice and makes recommendations to the Assistant Commandant for Operations on issues concerning merchant marine personnel.

Agenda of Meeting

The agenda for the March 11, 2010, Committee meeting is as follows:

(1) The full committee will meet to discuss the objectives for the meeting.

(2) Working groups addressing the following task statements may meet to deliberate—

(a) Task Statement 30, concerning Utilizing Military Sea Service for STCW Certifications;

(b) Task Statement 58, concerning Stakeholder Communications During MLD Program Restructuring and Centralization;

(c) Task Statement 64, concerning Recommendations on Areas in the STCW Convention and the STCW Code Identified for Comprehensive Review;

(d) Task Statement 71, concerning Review USCG/IMO Operational Level Examination (3rd Mate/2nd Mate and 3rd/2nd Assistant Engineer) Topics and Questions and Alignment with the STCW Code;

(e) Task Statement 73, concerning Development of Training Guidance for Engineers Serving on Near-Coastal Vessels; and

(f) Task Statement 74, concerning Merchant Mariner Credential (MMC) Components.

(3) MERPAC may form new working groups to address any new issues that arise.

(4) At the end of the day, the working groups will make a report to the full committee on what was accomplished in their meetings. No action will be taken on these reports on this date.

The agenda for the March 12, 2010, Committee meeting is as follows:

(1) Introduction;

(2) Reports from the following working groups;

(a) Task Statement 30, concerning Utilizing Military Sea Service for STCW Certification;

(b) Task Statement 58, concerning Stakeholder Communications During MLD Program Restructuring and Centralization;

(c) Addendum to Task Statement 64, concerning Recommendations on Areas in the STCW Convention and the STCW Code Identified for Comprehensive Review;

(d) Task Statement 71, concerning Review USCG/IMO Operational Level Examination (3rd Mate/2nd Mate and 3rd/2nd Assistant Engineer) Topics and Questions and Alignment with the STCW Code;

(e) Task Statement 73, concerning Development of Training Guidance for Engineers Serving on Near-Coastal Vessels;

(f) Task Statement 74, concerning Merchant Mariner Credential (MMC) Components; and

(g) Any other task statements adopted by the full committee at this meeting.

(3) Other items which may be discussed:

(a) Standing Committee—Prevention Through People.

(b) Briefings concerning on-going projects of interest to MERPAC.

(c) Other items brought up for discussion by the Committee or the public.

(4) At the end of the day, the working groups will make a report and, if applicable, recommendations for the full committee to consider for presentation to the Coast Guard. Official action on these recommendations may be taken on this date.

Procedural

These meetings will be open to the public. Please note that the meetings may close early if all business is finished. At the Chair's discretion, members of the public may make oral presentations during the meetings. If you would like to make an oral presentation at a meeting, please notify the Assistant to the DFO no later than March 1, 2010. Written material for distribution at a meeting should reach the Coast Guard no later than March 1, 2010. If you would like a copy of your material distributed to each member of the committee in advance of a meeting, please submit 25 copies to the Assistant to the DFO no later than March 1, 2010.

Information on Services for Individuals With Disabilities

For information on facilities or services for individuals with disabilities or to request special assistance at the meetings, contact the Assistant to the DFO as soon as possible.

Dated: February 1, 2010.
J.G. Lantz,
Director of Commercial Regulations and Standards.

[FR Doc. 2010-2892 Filed 2-9-10; 8:45 am]

BILLING CODE 9110-04-P